FEDERAL TRADE COMMISSION

Public Workshop: Advertising of Weight Loss Products

AGENCY: Federal Trade Commission (FTC).

ACTION: Extension of public comment period.

SUMMARY: The FTC issues an amendment to its notice announcing public Workshop, extending the time period during which persons may submit written comments on the topics discussed by the panelists.

DATES: Written comments must be received on or before February 3, 2003.

ADDRESSES: Written comments may be submitted to Secretary, Federal Trade Commission, Room 159, 600 Pennsylvania Avenue, NW., Washington, DC 20580, or e-mailed to weightloss@ftc.gov.

FOR FURTHER INFORMATION CONTACT: Rona Kelner, (202) 326-2752, rkelner@ftc.gov, or Lesley Fair, (202) 326-3081, lfair@ftc.gov, Division of Advertising Practices, Federal Trade Commission, 600 Pennsylvania Avenue, NW., Washington, DC 20580. To read the Commission's policy on how it handles the information you may submit, please visit http://www.ftc.gov/ftc/privacy.htm.

SUPPLEMENTARY INFORMATION:

November 19, 2002, Workshop

On November 19, 2002, the FTC held a public workshop on deception in weight-loss advertising. The goal of the workshop was to explore the impact of deceptive weight loss ads and to develop new approaches for combating weight loss advertising fraud. Three panels were convened over the course of the day, each focusing, respectively, on science, industry, and media issues.

The first panel consisted of researchers, academicians, medical professionals, and industry experts who discussed the state of the science regarding weight loss. These panelists evaluated eight common claims found in ads for weight loss products and opined on whether these claims promised results that are not scientifically feasible.

The second panel was comprised of representatives from the weight loss industry, including companies that sell weight loss products and trade associations that represent dietary supplement makers. This panel discussed the problem that deceptive advertising poses for legitimate industry players, and addressed what industry self-regulatory efforts have been, and could be, implemented.

The third panel was made up of media experts and representatives of media organizations and outlets. This panel focused on the role of the media in screening out false and deceptive advertisements, and discussed new approaches to effective media screening.

A detailed agenda, transcript, and other information about the workshop can be found on the FTC's Web site at http://www.ftc.gov/bcp/workshops/weightloss.

Form and Availability of Comments

To continue the discussion on this important topic, the FTC is extending the time period during which public comments may be submitted. Interested parties may file written comments on the issues that the panels addressed until February 3, 2003. Comments should be captioned “Advertising of Weight Loss Products Workshop—Comment, P024527.”

Parties sending written comments should submit an original and two copies of each document. To enable prompt review and public access, paper submissions should include a version on diskette in PDF, ASCII,WordPerfect, or Microsoft Word format. Diskettes should be labeled with the name of the party, and the name and version of the word processing program used to create the document. Alternatively, comments may be e-mailed to weightloss@ftc.gov.

Written comments will be available for public inspection in accordance with the Freedom of Information Act, 5 U.S.C. 552, and FTC regulations, 16 CFR 4.9, Monday through Friday between the hours of 8:30 a.m. and 5 p.m. at the Public Reference Room, Room 130-H, Federal Trade Commission, 600 Pennsylvania Avenue, NW., Washington, DC 20580. This notice and, to the extent possible, all comments will also be posted on the FTC Web site, http://www.ftc.gov.

By direction of the Commission.
Donald S. Clark,
Secretary.

[FR Doc. 02-31647 Filed 12-16-02; 8:45 am]

BILLING CODE 6750-01-P